SMALL BUSINESS ADMINISTRATION

Public Federal Regulatory Enforcement Fairness Roundtable, Region V Regulatory Fairness Board

The Small Business Administration Region V Regulatory Fairness Board and the SBA Office of the National Ombudsman will hold a Public Roundtable on Thursday, April 29, 2004, at 1 p.m. at the Radisson Hotel Lansing, Michigan Room 2 & 3, 111 N. Grand Avenue, Lansing, MI 48933, to provide small business owners and representatives of trade associations with an opportunity to share information concerning the federal regulatory enforcement and compliance environment.

Anyone wishing to attend or to make a presentation must contact Constance Logan in writing or by fax, in order to be put on the agenda. Constance Logan, Senior Manager Economic Development, SBA Michigan District Office, 477 Michigan Avenue, Suite 515, Detroit, MI 48226, phone (313) 226-6075 Ext. 279, fax (313) 226-4769, e-mail: constance.logan@sba.gov.

For more information, see our Web site at http://www.sba.gov/ombudsman.

Dated: April 8, 2004.
Peter Sorum,
Senior Advisor, Office of the National Ombudsman.

[FR Doc. 04-8427 Filed 4-13-04; 8:45 am]

BILLING CODE 8025-01-P